DEPARTMENT OF THE INTERIOR

National Park Service

[N6432; NPS-WASO-NAGPRA-NPS0040839; PPWOCRADN0-PCU00RP14.R50000]

Notice of Inventory Completion: Tennessee Department of Environment and Conservation Division of Archaeology, Nashville, TN, and University of Tennessee, McClung Museum of Natural History & Culture, Knoxville, TN

AGENCY: National Park Service, Interior.

ACTION: Notice.

SUMMARY: In accordance with the Native American Graves Protection and Repatriation Act (NAGPRA), the Tennessee Department of Environment and Conservation, Division of Archaeology (TDEC-DOA) and the University of Tennessee, McClung Museum of Natural History & Culture (UTK) have completed an inventory of human remains and associated funerary objects from Carter County, TN, and have determined that there is a cultural affiliation between the human remains and associated funerary objects and Indian Tribes or Native Hawaiian organizations in this notice.

DATES: Repatriation of the human remains and associated funerary objects in this notice may occur on or after September 19, 2025.

ADDRESSES: Send written requests for repatriation of the human remains and associated funerary objects in this notice to Phillip R. Hodge, Tennessee Department of Environment and Conservation, Division of Archaeology (TDEC-DOA), 1216 Foster Avenue, Cole Building #3, Nashville, TN 37243, email Phil.Hodge@tn.gov, and Dr. Ellen Lofaro, University of Tennessee (UTK), 5723 Middlebrook Pike, Knoxville, TN 37996, email nagpra@utk.edu.

SUPPLEMENTARY INFORMATION: This notice is published as part of the National Park Service's administrative responsibilities under NAGPRA. The determinations in this notice are the responsibility of TDEC-DOA and UTK, and additional information on the determinations in this notice, including the results of consultation, can be found in its inventory or related records. The National Park Service is not responsible for the determinations in this notice.

Abstract of Information Available

Site 40CR3, Carter County, TN

Human remains representing, at least, 23 individuals have been identified. The 48 associated funerary objects are 13 lots of ceramics, 13 lots of faunal remains, five lots of botanical material, five lots of daub, nine lots of lithics, two lot of soils, and one lot of historic material. 40CR3 is a multi-component, early to middle Woodland site (~BCE 1000-1000 CE).

Human remains representing, at least, two individuals were offered for sale in 2004 as part of a family estate auction. At the request of the Eastern Band of Cherokee Indians, then Tennessee State Archaeologist Nick Fielder inspected the auction inventory and identified these ancestral remains, which were seized and transferred to TDEC-DOA. No associated funerary objects are present. To the best of our knowledge, no potentially hazardous substances were used to treat these remains.

Human remains representing, at least, 15 individuals and 20 lots of associated funerary objects were removed from 40CR3. Based on available information, these individuals were likely all removed in 1962 by members of the Tennessee Archaeological Society (TAS). The 20 lots of associated funerary objects include seven lots of ceramics, eight lots of faunal remains, four lots of lithics, and one lot of soils. The individuals and materials removed by TAS were subsequently transferred to UTK. To the best of our knowledge, no potentially hazardous substances were used to treat these remains.

Human remains representing, at least, six individuals and 28 lots of associated funerary objects were removed from 40CR3 in 1982. The 28 associated funerary objects include five lots of botanical material, six lots of ceramics, five lots of daub, five lots of faunal remains, one lot of historic material, five lots of lithics, and one lot of soil. These individuals were removed in 1982 by UTK archaeologists under contract to the Tennessee Department of Transportation (TDOT). The human remains and other materials were transferred to UTK following removal. They were relocated to East Tennessee State University (ETSU) at an unknown date, where they were housed until 2024 when they were transferred back to UTK. The remains are coated with an unknown preservative, and some of the remains were “repaired” using glue. To the best of our knowledge, no other hazardous or potentially hazardous substances are present.

Cultural Affiliation

Based on the information available and the results of consultation, cultural affiliation is clearly identified by the anthropological, archaeological, and geographical information, Native American Expert Opinion, and oral tradition of the human remains and associated funerary objects described in this notice. Carter County, TN, is part of the aboriginal lands of Alabama-Coushatta Tribe of Texas; Cherokee Nation; Eastern Band of Cherokee Indians; The Muscogee (Creek) Nation; and the United Keetoowah Band of Cherokee Indians in Oklahoma.

Determinations

TDEC-DOA and UTK have determined that:

• The human remains described in this notice represent the physical remains of 23 individuals of Native American ancestry.

• The 48 lots of objects described in this notice are reasonably believed to have been placed intentionally with or near individual human remains at the time of death or later as part of the death rite or ceremony.

• There is a connection between the human remains and associated funerary objects described in this notice and the Alabama-Coushatta Tribe of Texas; Cherokee Nation; Eastern Band of Cherokee Indians; The Muscogee (Creek) Nation; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 19, 2025. If competing requests for repatriation are received, TDEC-DOA and UTK must determine the most appropriate requestor prior to repatriation. Requests for joint repatriation of the human remains and associated funerary objects are considered a single request and not competing requests. TDEC-DOA and UTK are responsible for sending a copy of this notice to the Indian Tribes and Native Hawaiian organizations identified in this notice.

Authority: Native American Graves Protection and Repatriation Act, 25 U.S.C. 3003, and the implementing regulations, 43 CFR 10.10.

Dated: August 5, 2025.
Melanie O'Brien,
Manager, National NAGPRA Program.

[FR Doc. 2025-15856 Filed 8-19-25; 8:45 am]

BILLING CODE 4312-52-P